DEPARTMENT OF HEALTH AND HUMAN SERVICES

Public Meeting of the President's Council on Bioethics on June 20-21, 2002; Correction

AGENCY: The President's Council on Bioethics, HHS.

ACTION: Correction notice.

SUMMARY: The President's Council on Bioethics will hold its fourth meeting at which it will discuss human cloning, the patentability of human embryos, and other issues. On June 4, 2002, the President's Council on Bioethics published a notice in the Federal Register (67 FR 38500); this correction notice changes the times for the meeting.

DATES: The meeting will take place June 20, 2002, from 9:00 am to 4:45 pm ET, and June 21, 2002, from 8:30 am to 11:45 am ET.

ADDRESSES: Ritz-Carlton Washington, DC, 1150 22nd Street, NW., Washington, DC 20037.

PUBLIC COMMENTS: The meeting agenda will be posted at http://www.bioethics.gov. Written statements may be submitted by members of the public for the Council's records. Please submit statements to Ms. Diane Gianelli (tel. 202/296-4669 or e-mail info@bioethics.gov). Persons wishing to comment in person may do so during the hour set aside for this purpose beginning at 3:45 p.m. ET on Thursday, June 20, 2002. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit our website at http://www.bioethics.gov.

Dated: June 11, 2002.
Dean Clancy,
Executive Director, The President's Council on Bioethics.

[FR Doc. 02-15350 Filed 6-18-02; 8:45 am]

BILLING CODE 4110-60-P